DEPARTMENT OF ENERGY

Federal Energy Regulatory Commission

Combined Notice of Filings

Take notice that the Commission has received the following Natural Gas & Oil Pipeline Rate and Refund Report filings:

Filings Instituting Proceedings

Docket Numbers: PR23-39-000.

Applicants: Southwest Gas Corporation.

Description: § 284.123(g) Rate Filing: Amended SOC for Blanket Certificate to be effective 4/1/2023.

Filed Date: 4/19/23.

Accession Number: 20230329-5197.

Comment Date: 5 p.m. ET 5/30/23.

Docket Numbers: RP23-607-000.

Applicants: Florida Gas Transmission Company, LLC.

Description: § 4(d) Rate Filing: New Non-Conforming Agreement—FP&L to be effective 4/1/2023.

Filed Date: 3/29/23.

Accession Number: 20230329-5203.

Comment Date: 5 p.m. ET 4/10/23.

Docket Numbers: RP23-608-000.

Applicants: Florida Gas Transmission Company, LLC.

Description: § 4(d) Rate Filing: New NRAs—OUC and Peoples and Update Non-Conf List to be effective 4/1/2023.

Filed Date: 3/29/23.

Accession Number: 20230329-5205.

Comment Date: 5 p.m. ET 4/10/23.

Docket Numbers: RP23-609-000.

Applicants: Horizon Pipeline Company, L.L.C.

Description: § 4(d) Rate Filing: NRA Filing—Natural Gas Pipeline Company of America LLC to be effective 4/1/2023.

Filed Date: 3/29/23.

Accession Number: 20230329-5209.

Comment Date: 5 p.m. ET 4/10/23.

Docket Numbers: RP23-610-000.

Applicants: Iroquois Gas Transmission System, L.P.

Description: Iroquois Gas Transmission System, L.P. submits Fuel and Losses Retention Percentage calculations for 2022.

Filed Date: 3/29/23.

Accession Number: 20230329-5226.

Comment Date: 5 p.m. ET 4/10/23.

Docket Numbers: RP23-611-000.

Applicants: Northern Border Pipeline Company.

Description: § 4(d) Rate Filing: Negotiated Rate Agreement—Sequent TL368F/101321 to be effective 4/1/2023.

Filed Date: 3/30/23.

Accession Number: 20230330-5002.

Comment Date: 5 p.m. ET 4/11/23.

Docket Numbers: RP23-612-000.

Applicants: MountainWest Overthrust Pipeline, LLC.

Description: § 4(d) Rate Filing: Non-conforming TSA WIC 6343 to be effective 4/1/2023.

Filed Date: 3/30/23.

Accession Number: 20230330-5025.

Comment Date: 5 p.m. ET 4/11/23.

Docket Numbers: RP23-613-000.

Applicants: Equitrans, L.P.

Description: § 4(d) Rate Filing: Amended Negotiated Rate Agreement—4/1/2023 to be effective 4/1/2023.

Filed Date: 3/30/23.

Accession Number: 20230330-5030.

Comment Date: 5 p.m. ET 4/11/23.

Docket Numbers: RP23-614-000.

Applicants: Equitrans, L.P.

Description: § 4(d) Rate Filing: Negotiated Rate Agreements to be effective 4/1/2023.

Filed Date: 3/30/23.

Accession Number: 20230330-5031.

Comment Date: 5 p.m. ET 4/11/23.

Docket Numbers: RP23-615-000.

Applicants: Enable Gas Transmission, LLC.

Description: § 4(d) Rate Filing: Cancel SWEPCO Agreement to be effective 4/1/2023.

Filed Date: 3/30/23.

Accession Number: 20230330-5060.

Comment Date: 5 p.m. ET 4/11/23.

Docket Numbers: RP23-616-000.

Applicants: Enable Gas Transmission, LLC.

Description: § 4(d) Rate Filing: Amended NRA Filing—SWEPCO to be effective 4/1/2023.

Filed Date: 3/30/23.

Accession Number: 20230330-5061.

Comment Date: 5 p.m. ET 4/11/23.

Docket Numbers: RP23-617-000.

Applicants: Stagecoach Pipeline & Storage Company LLC.

Description: § 4(d) Rate Filing: Stagecoach—Chesapeake, DTE, Amera & KM Gas Marketing to be effective 4/1/2023.

Filed Date: 3/30/23.

Accession Number: 20230330-5065.

Comment Date: 5 p.m. ET 4/11/23.

Docket Numbers: RP23-618-000.

Applicants: El Paso Natural Gas Company, L.L.C.

Description: § 4(d) Rate Filing: Negotiated Rate Agmt Update (Conoco—Apr 23) to be effective 4/1/2023.

Filed Date: 3/30/23.

Accession Number: 20230330-5079.

Comment Date: 5 p.m. ET 4/11/23.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP20-780-002.

Applicants: Pine Needle LNG Company, LLC.

Description: Compliance filing: Petition to Amend Settlement in Docket No. RP20-780-000 to be effective N/A.

Filed Date: 3/30/23.

Accession Number: 20230330-5108.

Comment Date: 5 p.m. ET 4/11/23.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 30, 2023.
Debbie-Anne A. Reese,
Deputy Secretary.

[FR Doc. 2023-07105 Filed 4-4-23; 8:45 am]

BILLING CODE 6717-01-P